DEPARTMENT OF DEFENSE

Department of the Air Force

Notice of Intent To Prepare an Environmental Impact Statement (EIS) for F-35A Lightning II Formal Training Unit Beddown at Kingsley Field Air National Guard Base, Klamath Falls, Oregon

AGENCY: National Guard Bureau, Department of the Air Force, Department of Defense.

ACTION: Notice of Intent.

SUMMARY: The Department of the Air Force (DAF) is issuing this Notice of Intent (NOI) to prepare an Environmental Impact Statement (EIS) to assess the potential social, economic, and environmental impacts associated with beddown of F-35A aircraft that would replace the legacy F-15C/D aircraft at Kingsley Field Air National Guard Base in Klamath Falls, Oregon. The DAF and NGB are joint lead agencies preparing the EIS and the Federal Aviation Administration is participating as a cooperating agency.

DATES: A public scoping period of 30 days will take place starting from the date of this NOI publication in the Federal Register. Identification of potential alternatives, information, and analyses relevant to the Proposed Action are requested and will be accepted at any time during the EIS process. To ensure sufficient time to consider public input in the preparation of the Draft EIS, scoping comments should be submitted in writing to the website, or the address listed below within the 30-day scoping period. An in-person scoping meeting is scheduled at Klamath Falls, OR on June 26, 2024 at the Crater Lake-Klamath Regional Airport. The Draft EIS is anticipated in Spring 2025 and the Final EIS is anticipated in Spring 2026. The Record of Decision would be approved and signed no earlier than 30 days after the Final EIS is published.

ADDRESSES: The project website www.KingsleyFieldF35EIS.com provides information on the EIS and the scoping process and can be used to submit scoping comments on-line. Scoping comments may also be submitted by email to NGB.A4.A4A.NEPA.COMMENTS.org@us.af.mil, including “F-35A Beddown EIS” in the subject line, or by mail to Mr. Devin Scherer, National Guard Bureau, NGB/A4FR 3501 Fetchet Avenue, Joint Base Andrews, MD 20762; (240) 612-8244. EIS inquiries and requests for digital or print copies of scoping materials are available upon request to Mr. Scherer at the email or mailing address provided. For printed material requests, the standard U.S. Postal Service shipping timeline will apply. Members of the public who want to receive future mailings informing them about the availability of the Draft and Final EIS, or to receive periodic fact sheets, are encouraged to submit a comment that includes their name and email or postal mailing address.

SUPPLEMENTARY INFORMATION: The purpose of the Proposed Action is to replace aging F-15C/D aircraft currently utilized by the 173d Fighter Wing (173 FW) with the state-of-the-art fighter aircraft to better address future mission requirements, offer expanded capability, and provide life-cycle cost savings in comparison to continued operation of existing F-15C/D aircraft. The Proposed Action is needed because the F-15C/D aircraft are reaching the end of their service life. The EIS will assess the potential environmental consequences of beddown, operation, and associated infrastructure construction of one formal training unit squadron of F-35A Lightning II (F-35A) aircraft at Kingsley Field Air National Guard Base (ANGB) at the Crater Lake-Klamath Regional Airport in Klamath Falls, Oregon. The squadron would consist of 24 F-35A Primary Aerospace Vehicles Authorized and two Backup Aerospace Vehicles Authorized and would replace the existing 26 F-15C/D aircraft currently operating at Kingsley Field ANGB. The EIS will also assess a No Action Alternative.

Resource areas being analyzed for include noise, biological resources, cultural resources, socioeconomics, soils and geology, water resources, infrastructure and transportation, land use, hazardous materials and wastes, health and safety, air quality, and environmental justice and other sensitive receptors. Potential significant impacts include those related to aircraft noise, air quality, and land use. Should any permits or other authorizations be required, the NGB and DAF will identify and obtain each. The EIS will be prepared in accordance with the National Environmental Policy Act (NEPA) of 1969; the Council on Environmental Quality regulations implementing NEPA; 40 Code of Federal Regulations (CFR) parts 1500-1508 as well as agency implementing regulations.

Scoping and Agency Coordination: Consultation will include, but not necessarily be limited to, Section 7 of the Endangered Species Act, Section 106 of the National Historic Preservation Act, and will include consultations with federally recognized Native American Tribes. The scoping process will be used to involve the public early in the planning and development of the EIS to assist in identifying issues and information to be addressed in the analysis. To effectively define the full range of issues to be evaluated, NGB and DAF will determine the scope of the analysis by requesting comments, including potential alternatives, information, and analyses from interested local, State, and Federal elected officials and agencies, Tribes, members of the public, and others. Comments will be accepted throughout the process, but in order to have comments incorporated into the Draft EIS, comments should be received within 30 days of the publication of this notice in the Federal Register. The scheduled dates, times, locations, and addresses for the scoping meetings are concurrently being published in local media and on the website. Public scoping will be accomplished by an in-person meeting during the scoping period and the project website will provide posters, a presentation, informational fact sheets, downloadable comment forms to fill out and return by mail, and the capability for the public to submit scoping comments on-line. Comments received at the scoping meeting, via email, on the website, or by U.S. mail will be considered equally.

Tommy W. Lee,
Acting Air Force Federal Register Liaison Officer.

[FR Doc. 2024-12132 Filed 6-3-24; 8:45 am]

BILLING CODE 3911-44-P